Executive Order 13786 of March 31, 2017

Omnibus Report on Significant Trade Deficits

By the authority vested in me as President by the Constitution and the laws of the United States of America, and in order to ensure the informed exercise of the authority over international trade granted to me by law, it is hereby ordered as follows:

Section 1. Policy. Free and fair trade is critical to the Nation's prosperity, national security, and foreign policy. It is in America's economic and national security interests to promote commerce by strengthening our relationships with our trading partners, vigorously enforcing our Nation's trade laws, improving the overall conditions for competition and trade, and ensuring the strength of our manufacturing and defense industrial bases.

For many years, the United States has not obtained the full scope of benefits anticipated under a number of international trade agreements or from participating in the World Trade Organization. The United States annual trade deficit in goods exceeds $700 billion, and the overall trade deficit exceeded $500 billion in 2016.

The United States must address the challenges to economic growth and employment that may arise from large and chronic trade deficits and the unfair and discriminatory trade practices of some of our trading partners. Unfair and discriminatory practices by our trading partners can deny Americans the benefits that would otherwise accrue from free and fair trade, unduly restrict the commerce of the United States, and put the commerce of the United States at a disadvantage compared to that of foreign countries. To address these challenges, it is essential that policy makers and the persons representing the United States in trade negotiations have access to current and comprehensive information regarding unfair trade practices and the causes of United States trade deficits.

Sec. 2. Report. Within 90 days of the date of this order, the Secretary of Commerce and the United States Trade Representative (USTR), in consultation with the Secretaries of State, the Treasury, Defense, Agriculture, and Homeland Security, and the heads of any other executive departments or agencies with relevant expertise, as determined by the Secretary of Commerce and the USTR, shall prepare and submit to the President an Omnibus Report on Significant Trade Deficits (Report). To aid in preparing the Report, the Secretary of Commerce and the USTR may hold public meetings and seek comments from relevant State, local, and non-governmental stakeholders, including manufacturers, workers, consumers, service providers, farmers, and ranchers. The Report shall identify those foreign trading partners with which the United States had a significant trade deficit in goods in 2016. For each identified trading partner, the Report shall:

(a) assess the major causes of the trade deficit, including, as applicable, differential tariffs, non-tariff barriers, injurious dumping, injurious government subsidization, intellectual property theft, forced technology transfer, denial of worker rights and labor standards, and any other form of discrimination against the commerce of the United States or other factors contributing to the deficit;

(b) assess whether the trading partner is, directly or indirectly, imposing unequal burdens on, or unfairly discriminating in fact against, the commerce of the United States by law, regulation, or practice and thereby placing the commerce of the United States at an unfair disadvantage;

(c) assess the effects of the trade relationship on the production capacity and strength of the manufacturing and defense industrial bases of the United States;

(d) assess the effects of the trade relationship on employment and wage growth in the United States; and

(e) identify imports and trade practices that may be impairing the national security of the United States.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 31, 2017.

[FR Doc. 2017-06968

Filed 4-4-17; 11:15 am]

Billing code 3295-F7-P